DEPARTMENT OF COMMERCE

International Trade Administration

Second Japan-U.S. Decommissioning and Remediation Fukushima Recovery Forum, Tokyo, Japan April 9-10, 2015

AGENCY: International Trade Administration, Department of Commerce.

ACTION: Notice.

Event Description

The U.S. Department of Commerce's International Trade Administration (ITA), with the support of the U.S. Department of Energy, is organizing the second Japan-United States Decommissioning and Remediation Fukushima Recovery Forum (“Fukushima Recovery Forum”) on April 9-10, 2015 in Tokyo, Japan. Building on the first Fukushima Recovery Forum held in February 2014, the 2nd Fukushima Recovery Forum will continue to develop U.S.-Japanese cooperation on Fukushima recovery efforts. The event will allow U.S. firms to hear from Japanese Ministries, utilities, and commissioning entities on the status of Fukushima recovery. It will be a forum for U.S. and Japanese firms to make contacts while sharing experiences, expertise, and lessons learned in remediation and decommissioning, including work underway at Fukushima Dai-ichi Nuclear Power Station, and in Tohoku, the area affected by the accident at Fukushima. The event also addresses interest in cooperation in areas related to nuclear power as Japan moves forward with its plan for restarting its nuclear reactors and decommissioning some of its commercial reactor fleet. U.S. firms will also network with Japanese firms and identify potential business partners.

ITA hopes that this cooperation between the U.S. and Japanese private sectors will lead to solutions that will enhance Fukushima recovery efforts. ITA is seeking the participation of a maximum of 25 U.S. companies or representatives of trade organizations that produce technology or provide services in the decommissioning or remediation sector, including water treatment and waste management. Staff from the U.S. Department of Commerce's Global Markets, Industry & Analysis (I&A), and U.S. & Foreign Commercial Service (CS) units will also be available in Tokyo to provide export counseling and civil nuclear trade policy guidance to participating companies.

Support for the Fukushima Recovery Forum was confirmed at meetings of the U.S-Japan Bilateral Commission on Civil Nuclear Cooperation. The Bilateral Commission is a senior-level, forum for consultations on mutual issues of concern to further strengthen bilateral cooperation and advance shared interests in the area of civil nuclear cooperation. The Bilateral Commission is chaired by the Department of Energy and Japan's Ministry of Economy, Trade, and Industry (METI).

The Decommissioning and Environmental Management Working Group (DEMWG) under the Bilateral Commission addresses the long-term consequences of the Fukushima accident, including facility decommissioning, spent fuel storage, decontamination, and remediation of contaminated areas. The Fukushima Recovery Forum is under the auspices of the DEMWG to further industry cooperation in support of Fukushima recovery efforts.

Event Goals

The Fukushima Recovery Forum is an event to bring together U.S. and Japanese private sector firms in the remediation, decommissioning, and waste management industries to develop relationships that will assist with the recovery of the Fukushima region. The Forum is intended to create better market opportunities for U.S. companies. It will do this by:

• Allowing U.S. firms to meet key Japanese officials involved in the planning of decommissioning, remediation, and other work related to Fukushima Recovery.

• Creating a venue where U.S. and Japanese firms can share experiences, expertise, and lessons learned in remediation and decommissioning, including on work already completed at Fukushima Dai-ichi, and in Tohoku.

• Giving U.S. and Japanese firms an opportunity to discuss key technical challenges related to Fukushima clean-up and nuclear decommissioning.

• Fostering collaboration between the U.S. and Japanese private sector to solve other challenges related to remediation and decommissioning.

• Providing an opportunity for companies from both the United States and Japan to network, build relationships and identify partners for current projects and potential joint future work.

Event Scenario

On March 11, 2011, an earthquake and tsunami hit Japan and led to a series of events at the Fukushima Dai-ichi Nuclear Power Station in which several units and their adjacent spent fuel pools experienced beyond-design-basis accidents. The four reactors at the site (Units 1-4) that received the brunt of the damage (of the six reactors at the site) also have integral spent fuel pools containing significant amounts of spent nuclear fuel, which were also damaged by the disaster and the subsequent explosions. Japan faces an unprecedented cleanup and decontamination challenge that will take many years to resolve as it strives to decommission Fukushima Dai-ichi and remediate the surrounding areas. In response to the Fukushima nuclear accident, the Japanese government introduced a system that limits the maximum operating period for nuclear power plants to 40 years. In January 2015, Japanese utilities announced plans to decommission five aging nuclear reactors.

The U.S. Government, and specifically the U.S. Department of Energy and its National Laboratories, have been involved in numerous exchanges of scientific and technical information and expertise with the Government of Japan to find solutions to problems created by the accident at Fukushima Dai-ichi related to decommissioning and decontamination. The U.S. Department of Commerce's International Trade Administration (ITA), with the support of the U.S. Department of Energy, proposed the Japan-United States Decontamination and Remediation Fukushima Recovery Forum to bring U.S. and Japanese firms together to complement the existing exchanges of information and expertise by providing an opportunity for coordination between the U.S. and Japanese private sectors to find solutions from U.S. firms that would assist Japan with its recovery process. In February 2014, ITA organized the first Japan-U.S. Decommissioning and Remediation Fukushima Recovery Forum in Tokyo. This two day event brought together 51 representatives from 26 U.S. firms and 101 representatives from 46 Japanese firms to discuss potential partnerships to help with Fukushima recovery.

Participating firms will:

• Receive a briefing on the status of Fukushima Dai-ichi decommissioning and decontamination work from relevant officials from the Japanese Government and industry.

• Participate in panel or breakout discussions focusing on decontamination, remediation and waste management. Firms with appropriate experience or technologies will be asked to present during these discussions.

• Exchange views on viable solutions to the challenges on Fukushima recovery with counterparts from the Japanese private sector;

• Participate in one-on-one networking sessions with interested Japanese firms;

• Attend a networking reception with senior leaders from Japan's Government and industry hosted by a senior U.S. Government representative from the U.S. Embassy in Tokyo;

• Take advantage of the Commercial Service in Tokyo's business advisory services if there is sufficient interest by participating U.S. firms and mission resources can accommodate such interest.

• There may be an opportunity to participate in an optional tour to the Fukushima Dai-ichi Nuclear Power Plant. This tour would incur additional fees.

Proposed Schedule

April 9

Participate in discussions with U.S. and Japanese firms consisting of presentations and dialogues on specific aspects of Fukushima Recovery, including decommissioning, remediation, waste management, and water management.

Participate in networking opportunities with Japanese firms.

Attend a networking reception with senior leaders from Japan's Government and industry hosted by a senior U.S. Government representative from the U.S. Embassy in Tokyo.

April 10

Participate in briefings by Japanese Government officials and other entities on the status of the situation at the Fukushima Dai-ichi Nuclear Power Station and surrounding area.

Participate in networking activities coordinated by ITA staff.

Event updates related to the Fukushima Recovery Forum can be found at: http://export.gov/japan/fukushima/forum/.

Participation Requirements

All parties interested in participating in the Fukushima Recovery Forum must submit an application package for consideration by the U.S. Department of Commerce. All applicants will be evaluated based on their ability to meet certain conditions and best satisfy the selection criteria as outlined below. A maximum of 25 companies will be selected to participate in the Forum from the applicant pool. U.S. companies already doing business in Japan as well as U.S. companies seeking to enter to the Japanese market for the first time may apply.

Fees and Expenses:

After a company has been selected to participate in the Forum, a participation fee is required. The participation fee is $930 for large firms and $665 for small or medium-sized firms.¹ The fee for each additional company representative is $500. As space permits, up to four additional representatives can be accommodated per company. Fees will cover the cost for interpreters, a booklet containing information about participating U.S. and Japanese firms, and reception costs.

¹ An SME is defined as a firm with 500 or fewer employees or that otherwise qualifies as a small business under SBA regulations (see http://www.sba.gov/size). Parent companies, affiliates, and subsidiaries will be considered when determining business size. The dual pricing reflects the Commercial Service's user fee schedule that became effective May 1, 2008. For additional information, see http://www.export.gov/newsletter/march2008/initiatives.html.

Exclusions:

The participation fee does not include personal travel expenses such as airfare, lodging, most meals, incidentals, and local ground transportation and personal interpreters used during the networking sessions. Delegation members will be able to take advantage of U.S. Embassy rates for hotel rooms. Business visas may be required. Government fees and processing expenses to obtain visas are also not included in the Fukushima Recovery Forum costs. However, the U.S. Department of Commerce will provide instructions to each participant on the procedures required to obtain necessary business visas.

Conditions for Participation

Applicants must submit a completed mission application signed by a company official, together with supplemental application materials, including adequate information on the company's products and/or services, interest in doing business in Japan, and goals for participation by February 27, 2015. If the U.S. Department of Commerce receives an incomplete application, it may reject the application, request additional information, or take the lack of information into account in its evaluation.

Each applicant must also certify that the products or services it seeks to export through its participation in the Fukushima Recovery Forum are either produced in the United States, or, if not, marketed under the name of a U.S. firm and have at least fifty-one percent U.S. content.

Selection Criteria for Participation

Selection will be based on the following criteria:

• Suitability of the company's products or services to the Japanese decommissioning or remediation sector, including water management and waste management;

• The company's potential for business in Japan, including likelihood of exports resulting from participation in the Fukushima Recovery Forum;

• The company's ability to identify and engage on policy issues relevant to U.S. competitiveness in the Japanese decontamination or remediation sectors; and

• Consistency of the company's goals and objectives with the scope of the Fukushima Recovery Forum.

Additional factors, such as balance of company size, industry subsector, location, and demographics, may also be considered during the review process.

Referrals from political organizations and any documents containing references to partisan political activities (including political contributions) will be removed from an applicant's submission and not considered during the selection process.

Timeframe for Recruitment and Participation

Recruitment for the Fukushima Recovery Forum will be conducted in an open and public manner, including publication in the Federal Register, posting on CS Japan's Web site, notices by industry trade associations and other multiplier groups, and publicity through the ITA network. Recruitment will begin immediately and conclude no later than February 27, 2015. The U.S. Department of Commerce will review applications and make selection decisions beginning on or about March 2, 2015. Applications received after March 2, 2015 will be considered only if space and scheduling constraints permit.

Applications for participation in the Fukushima Recovery Forum are available on line at: http://export.gov/japan/fukushima/forum/.

DATES: The Fukushima Recovery Forum will take place April 9-10, 2015. Applications are due no later than February 27, 2015.

Contacts

Danius Barzdukas, Japan Desk/Office of East Asia and APEC, U.S. Department of Commerce | International Trade Administration, Phone: 202-482-1147, Danius.Barzdukas@trade.gov

Gregory Taevs, U.S. Commercial Service Tokyo, U.S. Department of Commerce | International Trade Administration, +81-3-3224-5070, Gregory.Taevs@trade.gov

Jon Chesebro, Senior Nuclear Trade Specialist, Industry & Analysis | Office of Energy and Environmental Industries, U.S. Department of Commerce | International Trade Administration, Phone: (202) 482-1297, jonathan.chesebro@trade.gov

Frank Spector,
International Trade Specialist.

[FR Doc. 2015-03366 Filed 2-17-15; 8:45 am]

BILLING CODE 3510-DR-P